DEPARTMENT OF EDUCATION

[CFDA No. 84.031S]

Office Of Postsecondary Education; Developing Hispanic-Serving Institutions Program; Notice Inviting Applications for New Awards for Fiscal Year (FY) 2002

Purpose of Program: Assists eligible Hispanic-Serving Institutions (HSI) of higher education to expand their capacity to serve Hispanic and low-income students by enabling them to improve their academic quality, institutional management, and fiscal stability and to increase their self-sufficiency. Five-year individual development grants and cooperative arrangement grants will be awarded in FY 2002. Planning grants will not be awarded in FY 2002. For FY 2002 the competition for new awards focuses on projects designed to meet the priorities we describe in the PRIORITIES section of this application notice.

Eligible Applicants: Institutions of higher education that have been designated to receive funding under Parts A or B of Title III or under Title V of the Higher Education Act of 1965, as amended (HEA), are eligible to apply for individual development grants and cooperative arrangement grants. In addition, at the time of application, the institution must provide assurances that it has an enrollment of undergraduate full-time equivalent (FTE) students that is at least 25 percent Hispanic students, and that not less than 50 percent of the enrolled Hispanic students are low-income individuals.

Notes: 1. A grantee under the Developing Hispanic-Serving Institutions (HSI) Program, authorized under Title V of the HEA, may not receive a grant under any Title III, Part A Program. Further, an HSI Program grantee may not give up that grant in order to receive a grant under any Title III, Part A Program. Therefore, a current HSI Program grantee may not apply for a grant under any Title III, Part A Program in FY 2002.

Note: 2. An institution that does not fall within the limitation described in Note 1 may apply for a FY 2002 grant under all Title III, Part A Programs for which it is eligible, as well as under the HSI Program. An applicant may receive only one grant.

Applications Available: February 6, 2002.

Deadline for Transmittal of Applications: March 22, 2002.

Deadline for Intergovernmental Review: May 21, 2002.

Estimated Available Funds: Congress has appropriated $86 million for this program. Approximately, $70.5 million will support continuing grants. Therefore, approximately $15.5 million will be available for the new grant competition.

Estimated Range of Awards: Development Grants: $400,000-$450,000 per year. Cooperative Arrangement Grants: $550,000—$600,000 per year.

Estimated Average Size of Awards: Individual Development Grant: $425,000 per year. Cooperative Arrangement Grant: $600,000 per year.

Estimated Number of Awards: Individual Development Awards: 26. Cooperative Arrangement Awards: 6.

Note: The Department is not bound by any estimates in this notice.

Project Period: 60 months for individual development and cooperative grants.

Page Limit: We have established mandatory page limits for both the individual development grant and the cooperative arrangement development grant applications. You must limit the application to the equivalent of no more than 100 pages for the individual development and 140 pages for the cooperative arrangement development grant, using the following standards:

• A “page” is 8.5″ x 11″, on one side only, with 1″ margins top, bottom, right and left.

• Double space (no more than three lines per vertical inch) all text in the application narrative, including titles and headings. However, you may single space footnotes, quotations, references, captions, charts, forms, tables, figures and graphs.

• Use a font that is either 12-point or larger or no smaller than 10 pitch (characters per inch).

The page limit does not apply to the application cover sheet (ED 424), the Certification Regarding Collaborative Arrangement (ED 851S-8), Hispanic-Serving Institutions Assurance Form (ED 851S-7) and the Cooperative Arrangement Form (ED 851S-1). The page limit does, however, apply to all remaining parts of the application.

We will reject your application if—

• You apply these standards and exceed the page limit; or

• You apply other standards and exceed the equivalent of the page limit.

Applicable Regulations: (a) The Education Department General Administrative Regulations (EDGAR) in 34 CFR parts 74, 75, 77, 79, 81, 82, 85, 86, 97, 98, and 99; and (b) The regulations for this program in 34 CFR part 606.

Applicability of Executive Order 13202: Applicants that apply for construction funds under these programs must comply with the Executive Order 13202 signed by President Bush on February 17, 2001 and amended on April 26, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

Projects funded under this program that include construction activity will be provided a copy of this Executive order and will be asked to certify that they will adhere to it.

Priorities

This competition focuses on projects designed to meet the priority in section 511(d) of the HEA (29 U.S.C. 1103) (see 34 CFR 75.105(b)(2)(iv)).

The Secretary gives priority to an application that contains satisfactory evidence that the HSI has entered into, or will enter into, a collaborative arrangement with at least one local educational agency or community-based organization to provide that agency or organization with assistance (from funds other than funds provided under Title V of the HEA) in reducing dropout rates for Hispanic students, improving rates of academic achievement for Hispanic students, and increasing the rates at which Hispanic secondary school graduates enroll in higher education.

Under 34 CFR 75.105(c)(3) we consider only applications that meet this priority.

This competition also focuses on projects designed to meet the priority in section 514(b) of the HEA (20 U.S.C. 1103c) (see 34 CFR 75.105(b)(2)(iv)).

The Secretary gives priority to grants for cooperative arrangements that are geographically and economically sound or will benefit the applicant HSI.

Under 34 CFR 75.105(c)(3) we consider only applications that meet this priority.

Invitational Priorities

Within the absolute priorities specified in this notice, we are particularly interested in applications that meet one or more of the following invitational priorities.

Invitational Priority 1

Cooperative arrangements between two-year and four-year institutions of higher education aiming to increase transfer and retention of Hispanic students.

Invitational Priority 2

Cooperative arrangements between institutions of higher education that develop and share technological resources in order to enhance each institution's ability to serve the needs of low-income communities or minority populations.

Invitational Priority 3

Cooperative arrangements between institutions of higher education, at least one of which does not currently have funding under the HSI Program.

Invitational Priority 4

Cooperative arrangements that involve institutional partners from more than one university or college system.

Under 34 CFR 75.105(c)(1) we do not give an application that meets one or more of the invitational priorities a competitive or absolute preference over other applications.

Special Funding Consideration: In tie-breaking situations described in 34 CFR 606.23 of the HSI Program regulations, we award one additional point to an application from an institution that has an endowment fund for which the 1998-1999 market value per full-time equivalent (FTE) student was less than the comparable average per FTE student at similar type institutions. We also award one additional point to an application from an institution that had expenditures for library materials in 1998-1999, per FTE student, that were less than the comparable average per FTE student at similar type institutions.

For the purpose of these funding considerations, an applicant must be able to demonstrate that the market value of its endowment fund per FTE student, and library expenditures per FTE student, were less than the national averages for the year 1998-1999.

If a tie still remains after applying the additional point or points, we will determine the ranking of applicants based on the lowest combined library expenditures per FTE student and endowment values per FTE student.

Application Procedures

Note: Some of the procedures in these instructions for transmitting applications differ from those in the EDGAR (34 CFR 75.102). Under the Administrative Procedure Act (5 U.S.C. 553) the Department generally offers interested parties the opportunity to comment on proposed regulations. However, these amendments make procedural changes only and do not establish new substantive policy. Therefore, under 5 U.S.C 553(b)(A), the Secretary has determined that proposed rulemaking is not required.

Pilot Project for Electronic Submission of Applications

In Fiscal Year 2002, the U.S. Department of Education is continuing to expand its pilot project of electronic submission of applications to include additional formula grant programs and additional discretionary grant competitions. The Developing Hispanic-Serving Institutions program “ 84.031S is one of the programs included in the pilot project. If you are an applicant under the HSI, you may submit your application to us in electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is strictly voluntary.

• You will not receive any additional point value or penalty because you submit a grant application in electronic or paper format.

• You can submit all grant documents electronically including the Application for Federal Assistance (ED 424), Budget Information—Non-Construction Programs (ED 524), and all necessary assurances and certifications.

• Within three working days of submitting your electronic application, fax a signed copy of the Application for Federal Assistance (ED 424) to the Application Control Center after following these steps:

1. Print ED 424 form from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner ofED 424.

5. Fax ED 424 to the Application Control Center at (202) 260-1349.

• We may request that you give us original signatures on all other forms at a later date.

• You may access the electronic grant application for the Title V, HSI program at http://e-grants.ed.gov.

We have included additional information about the e-APPLICATION pilot project (see Parity Guidelines between Paper and Electronic Applications) in the application package.

For Applications and Further Information Contact: Sophia McArdle, Title V-Developing Hispanic-Serving Institutions Program, U.S. Department of Education, Office of Postsecondary Education, Higher Education Programs, 1990 K Street NW., 6th floor, Washington, DC 20006-8501. Telephone: (202)219-7078 or via Internet title_five@ed.gov.

If you use a telecommunications device for the deaf (TDD), you may call the Federal Information Relay Service (FIRS) at 1-800-877-8339.

Individuals with disabilities may obtain this document in an alternative format (e.g. Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site, www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of a document is the document published in the Federal Register. Free Internet access to the official edition of the Federal Register and the Code of Federal Regulations is available on GPO Access at http://www.access.gpo.gov/nara/index.html.

Program Authority: 20 U.S.C. 1101-1101d, 1103-1103g.

Dated: January 30, 2002.
Kenneth W. Tolo,
Acting Deputy Assistant Secretary for Policy, Planning and Innovation, Office of Postsecondary Education.

[FR Doc. 02-2702 Filed 2-4-02; 8:45 am]

BILLING CODE 4000-01-P